DEPARTMENT OF COMMERCE

National Oceanic and Atmospheric Administration

[I.D. 120302A]

Magnuson-Stevens Act Provisions; Atlantic Highly Migratory Species; Exempted Fishing and Scientific Research Permits

AGENCY: National Marine Fisheries Service (NMFS), National Oceanic and Atmospheric Administration (NOAA), Commerce.

ACTION: Reopening of comment period.

SUMMARY: Due to public request for an extension of the public comment period, NMFS is reopening the comment period for the notice of intent to issue Exempted Fishing Permits (EFPs) and Scientific Research Permits (SRPs) for the collection of Atlantic highly migratory species (HMS), previously published in the Federal Register on December 9, 2003.

DATES: The deadline of written comments on research and fishing activities is January 26, 2004.

ADDRESSES: Send comments to Christopher Rogers, Chief, Highly Migratory Species Management Division (F/SF1), NMFS, 1315 East-West Highway, Silver Spring, MD 20910. The EFP/SRP applications and copies of the regulations under which EFPs/SRPs are issued may also be requested from this address. Comments also may be sent via facsimile (fax) to (301)713-1917. Comments will not be accepted if submitted via e-mail or Internet.

FOR FURTHER INFORMATION CONTACT: Heather Stirratt or Sari Kiraly, 301-713-2347; fax: 301-713-1917.

SUPPLEMENTARY INFORMATION: EFPs and SRPs are requested and issued under the authority of the Magnuson-Stevens Fishery Conservation and Management Act (16 U.S.C. 1801 et seq.) and/or the Atlantic Tunas Convention Act (16 U.S.C. 971 et seq.). Regulations at 50 CFR 600.745 and 50 CFR 635.32 govern scientific research activity, exempted fishing, and exempted educational activity with respect to Atlantic HMS.

On December 9, 2003 (68 FR 68595), NMFS published a notice of intent to issue EFPs and SRPs for 2004. Due to public request, NMFS is reopening the comment period to January 26, 2004. Information regarding the issuance of EFPs and SRPs is contained in the previous notice and is not repeated here.

Authority: 16 U.S.C. 971 et seq. and 16 U.S.C. 1801 et seq.

Dated: December 23, 2003.
John H. Dunnigan,
Director, Office of Sustainable Fisheries, National Marine Fisheries Service.

[FR Doc. 03-32072 Filed 12-29-03; 8:45 am]

BILLING CODE 3510-22-S